Title 3—

The President

Proclamation 9757 of May 30, 2018

Great Outdoors Month, 2018

By the President of the United States of America

A Proclamation

During Great Outdoors Month, we celebrate the unmatched magnificence of our Nation's mountains, waters, canyons, and coastlines. Spending time in the great outdoors, especially during summer, is an American tradition. Every American should take the opportunity to enjoy the beauty of our natural wonders, which stretch from coast to coast and beyond.

As Americans, we are blessed with many stunning lands and waters that surround each of our communities. Our numerous forests, wildlife refuges, and local parks offer endless opportunities for recreation, adventure, and renewal. Early morning fishing trips and the thrill of summiting mountain peaks with friends create lasting memories. The splendid beauty of a sunset can inspire, while the solitude of a weekend camping trip often brings long-sought tranquility.

My Administration has made access to public land a top priority. We have modified national monuments to enhance public use and enjoyment of nearly two million acres of public land in Utah, and opened or expanded hunting and fishing access at 10 national wildlife refuges across the country. The splendor of our country's treasured lands is a source of national pride, and Americans should be able to enjoy as many of our treasured outdoor spaces as possible, in as many ways as possible.

As summer approaches, I encourage all Americans to step outside and appreciate America's natural beauty and to practice good stewardship of our environment. By enjoying our great outdoors, we enhance our collective efforts to preserve our natural lands and waters, protecting them for future generations.

NOW, THEREFORE, I, DONALD J. TRUMP, President of the United States of America, by virtue of the authority vested in me by the Constitution and the laws of the United States, do hereby proclaim June 2018 as Great Outdoors Month. I urge all Americans to explore the great outdoors while acting as stewards of our lands and waters.

IN WITNESS WHEREOF, I have hereunto set my hand this thirtieth day of May, in the year of our Lord two thousand eighteen, and of the Independence of the United States of America the two hundred and forty-second.

[FR Doc. 2018-12033

Filed 6-1-18; 8:45 am]

Billing code 3295-F8-P